DEPARTMENT OF DEFENSE

Office of the Secretary

Office of Economic Adjustment; Announcement of Federal Funding Opportunity

AGENCY: Office of Economic Adjustment (OEA), Department of Defense (DoD).

ACTION: Federal Funding Opportunity (FFO) announcement.

SUMMARY: This notice announces the opportunity to enter into a cooperative agreement with the Office of Economic Adjustment (OEA), a Department of Defense (DoD) Field Activity, to undertake a research project to assess and evaluate the design and effect of OEA's Defense Industry Adjustment (DIA) program and the assistance that its Grantees provide to affected communities, workers, and businesses. This notice includes proposal submission requirements and instructions, eligibility requirements, and selection criteria that will be used to evaluate proposals from eligible respondents.

SUPPLEMENTARY INFORMATION: a. Federal Awarding Agency: Office of Economic Adjustment (OEA), Department Of Defense (DoD).

b. Funding Opportunity Title: FY 2015 Project to Assess and Evaluate Defense Industry Adjustment Activities by Grantees under section 2391, part (b)(2), of United States Code, Title 10 (10 U.S.C. 2391).

c. Announcement Type: Initial Federal Funding Opportunity Announcement.

d. Catalog Of Federal Domestic Assistance (CFDA) Number & Title: 12.615, Research & Technical Assistance.

e. Key Dates: Written/electronic submissions must be received by OEA by 5:00 p.m., May 8, 2015 Eastern Daylight Savings Time. OEA will hold an informational teleconference at 1:00 p.m. Eastern Daylight Savings Time on April 15, 2015 to review the goals and objectives of this FFO and answer questions from interested respondents. For the teleconference number and passcode, interested respondents should pre-register for the teleconference no later than April 13, 2015 by 5:00 p.m. Eastern Daylight Savings Time. Pre-registration may be accomplished by contacting OEA via email at oea.ncr.OEA.mbx.research-and-technical-assistance@mail.mil with a courtesy copy to elizabeth.a.chimienti.civ@mail.mil. OEA expects to notify the respondent selected through this FFO by June 19, 2015.

I. Period Of Funding Opportunity

30 days.

II. Funding Opportunity Description

a. Program Description

OEA is authorized by 10 U.S.C. 2391 to conclude cooperative agreements with a State or local government or any private entity to conduct research and provide technical assistance in support of the Defense Economic Adjustment Program, and to assist communities, businesses and workers responding to Defense changes under 10 U.S.C. 2391 and Executive Order 12788, as amended. OEA is DoD's primary source for assisting communities that are adversely impacted by Defense program changes. Founded in 1961, OEA has helped communities in all 50 States and major United States territories develop comprehensive strategies to adjust to defense industry cutbacks, base closures, force structure realignments, base expansions, and incompatibilities between military operations and local development. Awards provided under this announcement support the Defense Economic Adjustment Program by providing: (1) Analysis and dissemination of information; and (2) support to innovative approaches.

The objective of OEA's DIA Program is to assist States and local governments to plan and carry out community adjustments and economic diversification activities in response to reductions in defense industry employment. Unlike base closures, where surplus property can be reused as part of a broader program to replace lost jobs and expand the local tax base, OEA's support for communities affected by factory closures and laid-off employees focuses on developing community adjustments and diversification strategies concentrating on workforce skills, opportunities for manufacturing investment/expansion, and adaptability of local plant and capital.

These strategies usually focus on regional job creation through business development, attraction, and expansion; workforce development; and community economic diversification. Additionally, during the planning process, OEA also coordinates with and provides information on other relevant federal assistance programs that can support coordinated economic development efforts.

On June 17, 2013, OEA released a Federal Funding Opportunity (FFO) announcing the availability of funding under its DIA program to support local adjustment activities in response to reduced DoD procurement (Federal Register 78 FR 36171). OEA currently provides technical and financial assistance to over 30 States, local governments, and instrumentalities of local government under this FFO, which was reissued on May 20, 2014. Additional applications are anticipated in 2015. Each project has been developed by a Grantee to respond to the particular circumstances of a State or region. Funded projects include a range of planning and economic adjustment activities to assist vulnerable or affected workers, businesses, and communities. Projects often differ substantially from one another, and thus performance measures and project outcomes vary across the portfolio. Grantees periodically report performance measures to OEA for the term of their grant.

OEA now seeks proposals to develop, test, and carry out quantitative and qualitative methodologies to help its DIA Grantees more effectively assess, evaluate, and report the full effect of their projects. Research findings will primarily help current Grantees adjust their projects to achieve better outcomes and secondarily inform the design of OEA's program of financial and technical assistance. Proposals will be evaluated against the eligibility criteria provided in section II.c. of this notice, and the selection criteria provided in section II.e. of this notice, by OEA, as well as other Federal agency staff as invited by OEA. OEA will notify the respondent within thirty (30) days of receipt of a proposal whether the proposal was successful. The successful respondent will then be invited to submit an application through OEA's eGrants system for a cooperative agreement. Additional details about the review and selection process is provided in section II.e. of the FFO.

The final amount of the cooperative agreement will be determined by OEA based upon a review of the final grant application and will be subject to availability of funds.

More information about the DIA program is available on the following Web site: http://www.oea.gov/programs/dia/start.

b. Federal Award Information

OEA intends to award one cooperative agreement under this FFO. In accordance with 31 U.S.C. 6305, a cooperative agreement is a legal instrument reflecting a relationship between the United States Government and a State, a local government, or other recipient when the principal purpose of the relationship is to transfer a thing of value to the State, local government, or other recipient to carry out a public purpose of support or stimulation authorized by a law of the United States instead of acquiring (by purchase, lease, or barter) property or services for the direct benefit or use of the United States Government, and substantial involvement is expected between the executive agency and the State, local government, or other recipient when carrying out the activity contemplated in the agreement. See Public Law 97-258, Sept. 13, 1982, 96 Stat. 1004.

The project period is for one year. OEA reserves the right to continue this effort with the selected respondent for up to 3 additional years without further competition, subject to the availability of appropriated funds, OEA policy, and satisfactory performance under the award.

c. Eligibility Information

i. Eligible Respondents

Eligible respondents include any State, tribal, or local governments, Institutions of Higher Education, non-profit entities, or for-profit organizations.

ii. Cost Sharing or Matching

Not applicable.

iii. Eligible Activities

Eligible activities include research and technical assistance in support of Defense Economic Adjustment Program activities under 10 U.S.C. 2391 and Executive Order 12788, as amended, to assist communities, businesses, and workers adversely affected by defense program changes. Proposals that do not address the Expected Proposal Elements (see section II, part d (iii)) will not be considered.

d. Proposal and Submission Information

i. Submission of a Proposal

Proposals can be submitted electronically to: Director, OEA, using the following electronic address: oea.ncr.OEA.mbx.ffo-submit@mail.mil with a courtesy copy to elizabeth.a.chimienti.civ@mail.mil. Include “Research Proposal for Defense Industry Adjustment Communities” on the subject line of the message and request delivery/read confirmation to ensure receipt.

Proposals may also be mailed or hand-delivered to: Director, Office of Economic Adjustment, 2231 Crystal Drive, Suite 520, Arlington, VA 22202-3711.

OEA will review all proposals for which receipt has been confirmed prior to the submission deadline.

ii. Content and Form of Proposal Submission

Proposals must include the following information:

1. Point of Contact: Name, phone number, email address, and organization address of the respondent's primary point of contact;

2. Project Description: A description of all elements of the proposed project, including how the project will assist OEA and DIA Grantees at the State/local level;

3. Project Parties: A description of the evaluation experience of the respondent and associated partner organizations/agencies, as well as their roles and responsibilities, which will execute the proposed project;

4. Work Breakdown Structure and Project Schedule: A sufficiently detailed project schedule, including milestones, over the course of the project;

5. Budget: Detailed proposed budget for the one-year project period. This section should also include narrative sufficient to explain each budget line item;

6. Funds Management: Evidence of the respondent's ability and authority to manage Federal funds;

7. Submitting Official: Documentation that the Submitting Official is authorized by the respondent to submit a proposal and subsequently apply for funding.

Proposals should be submitted in Microsoft Word or Adobe Acrobat PDF and emailed to the account stated in section II.d. OEA reserves the right to ask any respondent to supplement the information in its proposal, but expects proposals to be complete upon submission. To the extent practicable, OEA encourages respondents to provide data and evidence of all project merits in a form that is publicly available and verifiable.

OEA will invite the successful respondent to submit a full application to enter into a cooperative agreement under this announcement following the review and selection process (for more details, see section II, part e, Proposal Review Information).

iii. Expected Proposal Elements

OEA solicits competitive applications from organizations or consortia that will design, pilot, and carry out program evaluation methodologies to capture and share the effect of planning and economic adjustment activities by OEA's DIA Grantees and assess the responsiveness of OEA's program of assistance for Fiscal Years (FY) 2014 and 2015. Competitive proposals from qualified researchers will address the following project tasks at a minimum:

1. Data Collection

OEA currently provides technical and financial assistance to over 30 States, local governments, and instrumentalities of local government through the Defense Industry Adjustment program. Additional DIA grantees are anticipated in FY 2015. DIA Grantees report performance and financial data on a periodic basis for the term of their grant. Performance reports contain information on the following:

a. A comparison of actual accomplishments to the objectives established for the period;

b. Reasons for slippage if established objectives were not met;

c. Additional pertinent information when appropriate;

d. A comparison of actual and projected quarterly expenditures in the grant; and

e. Amount of Federal cash on hand at the beginning and end of the reporting period.

The final performance report contains a summary of activities for the entire grant period.

This evaluation project will likely require additional sources of information. Respondents should discuss how they will supplement what OEA currently collects to understand the range of supported grant activities across the DIA portfolio and the evaluation needs of each Grantee (e.g., surveys, in-person interviews, etc.).

OEA will work closely with the successful respondent to share existing performance information and project points of contact.

2. Project Methodology

DIA Grantees include States, local governments and instrumentalities of State and local government. Grants have ranged from $245,000 to $8 million. Some Grantees are planning in anticipation of announced defense acquisition cuts, while others are responding to actual reductions. Respondents should describe how they anticipate addressing the diversity of Grantee types and activities as they design the methodology for the program evaluation. OEA will work closely with the successful respondent to design the project. The successful respondent will be expected to meet with OEA at least quarterly as the methodology is being refined and tested.

3. Reports and Outreach

The successful respondent will be expected to prepare and present one report during the project period using the project design developed in paragraph (2). This report will cover findings for FY 2014-15. It will summarize the evaluation methodology, assess DIA project performance and outcomes to date, offer “best practices” or “common pitfalls to avoid,” and recommend additional metrics or indicators OEA could use in future evaluations of DIA projects. The report should present project findings in a visually appealing format appropriate for print or electronic media, and use easily accessible language. A minimum of five (5) hard copies and one (1) electronic version should be provided to OEA.

The successful respondent shall submit a draft research report to OEA at least 90 days before the end of the project period. If OEA approves the draft research report, it will approve publication of a final research report, and the successful respondent will brief OEA leadership on the research methods and report results.

OEA will work closely with the successful respondent to share the report's findings with DIA Grantees and other relevant stakeholders in order to refine the evaluation design and offer programmatic recommendations to project leaders in the field.

4. Technical Assistance Materials and Presentations

During the term of the cooperative agreement, OEA may request the successful respondent to develop case studies or attend events to present on “best practices” or “lessons learned” through this project. OEA will provide advanced notification when these products or events may be necessary. Respondents should budget for up to ten (10) case studies and travel for three (3) conference presentations in the Washington, DC area.

All items produced under the OEA-approved scope of work for this project may be posted on or linked to OEA's Web site at http://www.oea.gov.

Respondents must specify in their proposals and budgets how they propose to complete the scope of work, which consists of carrying out the tasks outlined above or enumerated in the respondent's proposal and final award, within the initial one-year project period.

This cooperative agreement may result in up to a four-year project period, subject to the availability of appropriated funds, OEA policy, and satisfactory performance under the award.

OEA anticipates a close working partnership with the successful respondent. OEA will exercise substantial involvement under this cooperative agreement in the following ways:

1. Approval of the Recipient's project schedule.

2. OEA and Recipient joint participation in communications/engagement with OEA Grantees.

3. OEA and Recipient collaboration on project methodology over the course of the project period.

4. Approval of draft reports, technical assistance materials and presentations.

iv. Unique Entity Identifier and System for Award Management (SAM)

Each respondent is required to: (a) Provide a valid Dun and Bradstreet Universal Numbering System (DUNS) number; (b) be registered in SAM before submitting its application; and (c) continue to maintain an active SAM registration with current information at all times during which it has an active Federal award or an application or plan under consideration by a Federal awarding agency. OEA may not make a Federal award to a respondent until the respondent has complied with all applicable unique entity identifier and SAM requirements and, if a respondent has not fully complied with the requirements by the time OEA is ready to issue a Federal award, OEA may determine that the respondent is not qualified to receive a Federal award and use that determination as a basis for making a Federal award to another respondent.

v. Submission Dates and Times

Electronic submissions must be received by OEA by 5:00 p.m., May 8, 2015 Eastern Daylight Savings Time. Proposals sent after this time will not be reviewed.

vi. Intergovernmental Review

Not applicable.

vii. Funding Restrictions

OEA reserves the right to decline to fund pre-Federal award costs. Final awards may include pre-Federal award costs at the discretion of OEA; however, this must be specifically requested in the grantee's application.

The recipient may not earn or keep any profit resulting from Federal financial assistance.

Funding may not be used for direct hard- or soft-construction activities.

viii. Other Submission Requirements

Each proposal shall consist of no more than ten (10) single-sided pages typed in a minimum 11-point common typeface, with no less than 1” margins, exclusive of appendices, attachments, and cover sheet and/or transmittal letter. Electronically submitted materials should be sent in Microsoft Word or Adobe Acrobat PDF format.

e. Proposal Review Information

i. Selection Criteria

In reviewing proposals under this notice, OEA considers and weights equally each of the following factors:

1. Overall conformance with proposal requirements;

2. Overall quality of proposed research plan;

3. Overall expertise, experience, qualifications and ability of investigators;

4. Previous Federal grant management experience; and

5. Overall cost.

ii. Review and Selection Process

Proposals will be reviewed by OEA staff for completeness and accuracy as they are received. After the submission deadline, a panel of Federal agency staff will convene to review and rate the proposals using the criteria in section II, part e, Selection Criteria. Each panelist convened for this competition will evaluate each and every proposal.

Once a successful proposal has been selected, OEA will notify the respondent and assign a Project Manager to advise and assist with the preparation and submission of an application for a cooperative agreement in OEA's proprietary electronic grant management system.

A typical research project period begins with an initial meeting between the successful respondent and OEA staff to discuss the project scope of work and to ensure that all parties are in agreement as to the project terms. The successful respondent will then submit an application. The application will be reviewed for its completeness and accuracy, and, to the extent possible, an award notification will be issued within fourteen (14) days of the receipt of a complete application.

Unsuccessful respondents will be notified that their proposals were not selected for further action and funding, and may request a debriefing on their submitted proposal. Requests for debriefing must be submitted in writing within 3 calendar days of notification of an unsuccessful proposal.

f. Federal Award Administration Information

i. Federal Award Notices

In the event a cooperative agreement is awarded, the successful respondent (Recipient) will receive a notice of award in the form of a Cooperative Agreement, signed by the Director, OEA (Grantor), on behalf of DoD. The Cooperative Agreement will be transmitted electronically or, if necessary, by U.S. Mail. The Recipient must review the award agreement and indicate their consent to its terms by signing and returning it to OEA.

ii. Administrative and National Policy Requirements

Any cooperative agreement awarded under this program will be governed by the provisions of the OMB circulars applicable to financial assistance and DoD's implementing regulations in place at the time of the award. A Recipient receiving funds under this opportunity and any consultant or pass-thru entity operating under the terms of a cooperative agreement shall comply with all Federal, State, and local laws applicable to its activities. Federal regulations that will apply to an OEA cooperative agreement include administrative requirements and provisions governing allowable costs as stated in:

• 2 CFR part 200, “Uniform Administrative Requirements, Cost Principles, and Audit Requirements for Federal Awards”;

• 2 CFR part 1103, “Interim Grants and Cooperative Agreements Implementation of Guidance in 2 CFR part 200, “Uniform Administrative Requirements, Cost Principles, And Audit Requirements for Federal Awards”;

• 2 CFR part 25, “Universal Identifier and System for Award Management”;

• 2 CFR part 170, “Reporting Subaward and Executive Compensation Information”;

• 2 CFR part 180, OMB Guidelines to Agencies on Government-wide Debarment and Suspension (Nonprocurement), as implemented by DoD in 2 CFR part 1125, Department of Defense Nonprocurement Debarment and Suspension; and

• 32 CFR part 28, “New Restrictions on Lobbying”.

iii. Reporting

OEA requires periodic performance reports, an interim financial report for each 12 months a cooperative agreement is active, and one final performance report. Performance reports will contain information on the following:

a. A comparison of actual accomplishments to the objectives established for the period;

b. Reasons for slippage if established objectives were not met;

c. Additional pertinent information when appropriate;

d. A comparison of actual and projected quarterly expenditures in the cooperative agreement; and,

e. Amount of Federal cash on hand at the beginning and end of the reporting period.

The final performance report must contain a summary of activities for the entire project period. All required deliverables should be submitted with the final performance report.

The final SF 425, “Federal Financial Report,” must be submitted to OEA within 90 days after the end of the cooperative agreement.

Any funds actually advanced and not needed for project purposes shall be returned immediately to OEA. OEA will provide a schedule for reporting periods and report due dates in the Cooperative Agreement.

g. Federal Awarding Agency Contact

For further information, to answer questions, or for help with problems, contact: Ms. Elizabeth Chimienti, Project Manager, Office of Economic Adjustment, 2231 Crystal Drive, Suite 520, Arlington, VA 22202-3711, Office: (703) 697-2075. Email: elizabeth.a.chimienti.civ@mail.mil. The OEA homepage address is: http://www.oea.gov.

h. Other Information

i. Cooperative Agreement Award Determination

Selection of an organization under this FFO does not constitute approval of a cooperative agreement for the proposed project as submitted. Before any funds are awarded, OEA may enter into negotiations about such items as program components, staffing and funding levels, and administrative systems in place to support implementation of the award. The amount of available funding may require the final award amount to be less than that originally requested by the respondent. If the negotiations do not result in a mutually acceptable submission, OEA reserves the right to terminate the negotiations and decline to fund an application. OEA further reserves the right not to fund any application received under this FFO.

In the event the respondent is awarded a cooperative agreement that is less than the amount requested, the respondent will be required to modify its grant application to conform to the reduced amount before execution of the cooperative agreement. OEA reserves the right to reduce or withdraw the award if acceptable modifications are not submitted by the respondent within 15 business days from the date the request for modification is made. Any modifications must be within the scope of the original application.

ii. No Obligation for Future Funding

Amendment or renewal of an award to increase funding or to extend the period of performance is at the discretion of OEA. If a respondent is awarded funding under this FFO, neither OEA, DoD nor any Federal agency are under any obligation to provide any additional future funding in connection with that award or to make any future award(s).

iii. Submission of Proprietary Information

Given the subject matter, some submissions may include proprietary information as it relates to confidential commercial information. The Freedom of Information Act defines “confidential commercial information” as information the disclosure of which could reasonably be expected to cause substantial competitive harm. Respondents may wish to request that OEA not disclose what they regard as confidential commercial information.

To assist OEA in making a determination on a non-disclosure request, respondents are encouraged to identify any specific confidential commercial information their proposals, or to email OEA directly with questions on this matter. Please list the information by page and paragraph numbers.

The documents and information submitted in response to this FFO become the property of the U.S. Government and will not be returned.

iv. Intellectual Property Rights

In the event of a cooperative agreement award, the Recipient may copyright any work that is subject to copyright and was developed, or for which ownership was purchased, under an award. The Federal awarding agencies reserve a royalty-free, nonexclusive and irrevocable right to reproduce, publish, or otherwise use the work for Federal purposes, and to authorize others to do so. Such uses include, but are not limited to, the right to modify and distribute such products worldwide by any means, electronically or otherwise. The Recipient may not use Federal funds to pay any royalty or license fee for use of a copyrighted work, or the cost of acquiring by purchase a copyright in a work, where DoD has a license or rights of free use in such work. If revenues are generated through selling products developed with cooperative agreement funds, including intellectual property, these revenues are program income and shall be added to the cooperative agreement and must be expended for allowable cooperative agreement activities.

Dated: April 1, 2015.
Aaron Siegel,
Alternate OSD Federal Register Liaison Officer, Department of Defense.

[FR Doc. 2015-07793 Filed 4-3-15; 8:45 am]

BILLING CODE 5001-06-P